DEPARTMENT OF HOMELAND SECURITY

Federal Emergency Management Agency

[Docket ID FEMA-2021-0002; Internal Agency Docket No. FEMA-B-2177]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before February 14, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2177, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security,Federal Emergency Management Agency.

Community | Community map repository address
Chilton County, Alabama and Incorporated Areas
Project: 18-04-0029S Preliminary Date: May 8, 2020
City of Calera | Engineering Department, 1074 10th Street, Calera, AL 35040.
City of Clanton | Building Department, 505 2nd Avenue North, Room 225, Clanton, AL 35045.
City of Jemison | City Hall, 14 Padgett Lane, Jemison, AL 35085.
Town of Thorsby | Town Hall, 21060 U.S. Highway 31, Thorsby, AL 35171.
Unincorporated Areas of Chilton County | Chilton County Road Department, 272 Airport Lane, Clanton, AL 35045.
Clay County, Alabama and Incorporated Areas
Project: 18-04-0029S Preliminary Date: May 8, 2020
Unincorporated Areas of Clay County | Clay County Engineering Department, 86842 Alabama Highway 9, Lineville, AL 36266.
Coosa County, Alabama and Incorporated Areas
Project: 18-04-0029S Preliminary Date: May 8, 2020
Town of Goodwater | City Hall, 22132 Alabama Highway 9, Goodwater, AL 35072.
Town of Rockford | Town Hall, 9688 U.S Highway 231, Rockford, AL 35136.
Unincorporated Areas of Coosa County | Coosa County Courthouse, 9709 U.S. Highway 231, Rockford, AL 35136.
Elmore County, Alabama and Incorporated Areas
Project: 18-04-0029S Preliminary Date: May 8, 2020
City of Wetumpka | City Hall, 408 South Main Street, Wetumpka, AL 36092.
Town of Elmore | Town Hall, 485 Jackson Street, Elmore, AL 36025.
Unincorporated Areas of Elmore County | Elmore County Highway Department, 155 County Shop Road, Wetumpka, AL 36092.
Shelby County, Alabama and Incorporated Areas
Project: 18-04-0029S Preliminary Date: May 8, 2020
City of Alabaster | City Hall, 1953 Municipal Way, Alabaster, AL 35007.
City of Chelsea | City Hall, 11611 Chelsea Road, Chelsea, AL 35043.
City of Columbiana | City Hall, 107 Mildred Street, Columbiana, AL 35051.
Town of Harpersville | Town Hall, 83 Town Hall Lane, Harpersville, AL 35078.
Town of Westover | Town Hall, 3312 Westover Road, Westover, AL 35147.
Town of Wilsonville | Town Hall, 9905 North Main Street, Wilsonville, AL 35186.
Unincorporated Areas of Shelby County | Shelby County Highway Department, 506 Alabama Highway 70, 2nd Floor, Columbiana, AL 35051.
Talladega County, Alabama and Incorporated Areas
Project: 18-04-0029S Preliminary Date: May 8, 2020
City of Childersburg | City Hall, 201 8th Avenue Southwest, Childersburg, AL 35044.
City of Sylacauga | City Hall, 301 North Broadway Avenue, Sylacauga, AL 35150.
Town of Bon Air | Town Office, 227 Front Street, Bon Air, AL 35032.
Unincorporated Areas of Talladega County | Talladega County Highway Department, 820 Alabama Highway 275, Talladega, AL 35160.
Henderson, Kentucky and Incorporated Areas
Project: 16-04-8581S Preliminary Date: May 26, 2021
City of Henderson | City Hall, 222 1st Street, Henderson, KY 42420.
City of Robards | City Hall, 1101 Clark Street, Robards, KY 42452.
Unincorporated Areas of Henderson County | Henderson City-County Planning Commission, 1990 Barrett Court, Suite C, Henderson, KY 42420.
Union County, Kentucky and Incorporated Areas
Project: 16-04-8581S Preliminary Date: May 26, 2021
City of Morganfield | Union County Courthouse, 100 West Main Street, Morganfield, KY 42437.
City of Uniontown | Union County Courthouse, 100 West Main Street, Morganfield, KY 42437.
Unincorporated Areas of Union County | Union County Courthouse, 100 West Main Street, Morganfield, KY 42437.
Webster County, Kentucky and Incorporated Areas
Project: 16-04-8581S Preliminary Date: May 26, 2021
Unincorporated Areas of Webster County | Webster County Tax Commission Office, 25 U.S. Highway 41-A South, Dixon, KY 42409.
Bexar County, Texas and Incorporated Areas
Project: 20-06-0108S Preliminary Date: June 30, 2021
City of China Grove | City Hall, 2412 FM 1516 South, China Grove, TX 78263.
City of Elmendorf | City Hall, 8304 FM 327, Elmendorf, TX 78112.
City of San Antonio | Transportation and Capital Improvements Department, Storm Water Division, 114 West Commerce Street, 6th Floor, San Antonio, TX 78205.
Unincorporated Areas of Bexar County | Bexar County Public Works Department, 1948 Probandt Street, San Antonio, TX 78214.
Wilson County, Texas and Incorporated Areas
Project: 20-06-0107S Preliminary Date: June 30, 2021
City of Elmendorf | City Hall, 8304 FM 327, Elmendorf, TX 78112.
Unincorporated Areas of Wilson County | Wilson County Courthouse, 1420 3rd Street, Suite 101, Floresville, TX 78114.

[FR Doc. 2021-24982 Filed 11-15-21; 8:45 am]

BILLING CODE 9110-12-P